DEPARTMENT OF AGRICULTURE

National Agricultural Statistics Service

Notice of Intent To Reinstate a Previously Approved Information Collection

AGENCY: National Agricultural Statistics Service, USDA.

ACTION: Notice and request for comments.

SUMMARY: In accordance with the Paperwork Reduction Act of 1995 (Pub. L. 104-113) and Office of Management and Budget regulations at 5 CFR part 1320 (60 FR 44978, August 29, 1995), this notice announces the intention of the National Agricultural Statistics Service (NASS) to request reinstatement with change of a previously approved information collection, the Census of Agriculture.

DATES: Comments on this notice must be received by April 11, 2006 to be assured of consideration.

ADDRESSES: Comments may be sent to Ginny McBride, NASS Clearance Officer, U.S. Department of Agriculture, Room 5336 South Building, 1400 Independence Avenue SW., Washington, DC 20250-2024 or gmcbride@nass.usda.gov or faxed to (202) 720-6396.

FOR FURTHER INFORMATION CONTACT: Joseph T. Reilly, Associate Administrator, National Agricultural Statistics Service, U.S. Department of Agriculture, (202) 720-4333.

SUPPLEMENTARY INFORMATION: Title: The 2007 Census of Agriculture.

OMB Control Number: 0535-0226.

Type of Request: Intent to Request Reinstatement of a Previously Approved Information Collection.

Abstract: The census of agriculture, conducted every 5 years, is the primary source of statistics concerning the nation's agricultural industry. It provides the only basis of consistent, comparable data for each county, county equivalent, and State in the United States and its outlying insular areas. The census of agriculture is required by law under the Census of Agriculture Act of 1997, Pub. L. 105-113, 7 U.S.C. 2204(g).

The 2007 census of agriculture will cover all agricultural operations in the 50 States, Puerto Rico, Guam, the U.S. Virgin Islands, the Commonwealth of Northern Mariana Islands (CNMI), and American Samoa (AS), which meet the census definition for a farm. For the States, Guam, and CNMI, a farm is any place that produced and sold, or normally would produce and sell, $1,000 or more of agricultural products during the census year. For Puerto Rico and the U.S. Virgin Islands it is any place with $500 in sales. American Samoa defines a farm without using a specific dollar value of sales.

Data collection for the censuses of agriculture for the 50 States and Puerto Rico will be conducted primarily by mail-out/mail-back procedures. Data collection for Guam, the U.S. Virgin Islands, CNMI, and AS, will be conducted using direct enumeration methods. NASS conducted a census survey form content test (OMB No. 5035-0243) during the winter of 2005-2006 to evaluate new content items, report form design and format, and processing procedures for the 50 States.

To minimize response burden NASS is introducing a new short form which is targeted to farm operators who have a history of only raising a few commodities. This history is determined by administrative data collected over multiple years from surveys and censuses. The short form allows a respondent to report virtually every question contained in the long form but with a streamlined approach. With fewer pages to review, respondents will be able to report their commodities more quickly. This also eliminates the need for sample data, used since the 1978 Census of Agriculture, which has increasingly caused confusion on the part of data users. A long form will be tailored to various regions of the country, as in past censuses, and used to collect data from operators with several crop and/or livestock commodities or unknown agricultural production. A screening survey conducted prior to the census will again be used to eliminate non-farm operations from the census mail list.

The Census of Agriculture Act guarantees farm operators that their individual information will be kept confidential. NASS uses the information only for statistical purposes and publishes only summarized data. These data are used by Congress when developing or changing farm programs. Many national and State programs are designed or allocated based on census data, such as soil conservation projects, funds for cooperative extension programs, and research funding. Private industry uses the data to provide more effective production and distribution systems for the agricultural community.

Estimate of Burden: Public reporting burden for this collection is estimated to average 50 minutes per positive response, 10 minutes per screen-out, and 1 minute per refusal.

Respondents: Farm and ranch operators.

Estimated Number of Respondents: 3,160,000.

Estimated Total Annual Burden on Respondents: 1,400,000 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; ( c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, January 17, 2006.
Joseph T. Reilly,
Associate Administrator.

[FR Doc. E6-1876 Filed 2-9-06; 8:45 am]

BILLING CODE 3410-20-P